DEPARTMENT OF THE INTERIOR

National Park Service

[NPS-WASO-NAGPRA-NPS0039800; PPWOCRADN0-PCU00RP14.R50000]

Notice of Intended Repatriation: Schingoethe Center of Aurora University, Aurora, IL

AGENCY: National Park Service, Interior.

ACTION: Notice.

SUMMARY: In accordance with the Native American Graves Protection and Repatriation Act (NAGPRA), the Schingoethe Center of Aurora University, Aurora, IL intends to repatriate certain cultural items that meet the definition of sacred objects or objects of cultural patrimony and that have a cultural affiliation with the Indian Tribes or Native Hawaiian organizations in this notice.

DATES: Repatriation of the cultural items in this notice may occur on or after May 2, 2025.

ADDRESSES: Zachary Bishop, Schingoethe Center of Aurora University, 347 S Gladstone Avenue, Aurora, IL 60506, telephone (630) 844-7845, email zbishop@aurora.edu.

SUPPLEMENTARY INFORMATION: This notice is published as part of the National Park Service's administrative responsibilities under NAGPRA. The determinations in this notice are the sole responsibility of the Schingoethe Center of Aurora University, and additional information on the determinations in this notice, including the results of consultation, can be found in the summary or related records. The National Park Service is not responsible for the determinations in this notice.

Abstract of Information Available

A total of nine cultural items have been requested for repatriation.

The eight items of cultural patrimony consist of one Loom Woven Beaded Belt (1992.2.10); one Loom Beaded Belt (1992.2.46); one Beaded Pouch (1992.2.51); one Handwoven Sash (1992.2.66); one Pair of Loom Beaded Garters (1993.2.11); one Cradleboard (1989.1.89); one Flattened Roach (1989.3.17); and one Cloth Shirt with Velvet Panels (1989.1.97). The one sacred object is a tomahawk pipe (1989.5.9).

All of these objects were donated to the Schingoethe Center between 1989 and 1993 by Herb and Martha Schingoethe of Aurora, Illinois. The flattened roach was purchased by Herb Schingoethe in 1967, most likely in southwestern Colorado. The tomahawk pipe was purchased by Herb and Martha Schingoethe at an unknown time and location. All other objects were purchased by Herb and Martha Schingoethe through Dunning's Auction Service in Elgin, Illinois in 1989 and 1992. One of the two loom woven beaded belts was reportedly made by Hattie Rouge, a Winnebago woman who lived on the Winnebago Reservation in Nebraska and acquired by Charles F. Ayers around 1923. Available records do not include further ownership or location information for the objects. The flattened roach and cloth shirt with velvet panels were treated with Vikane brand sulfuryl fluoride in 1990. There are no institution records indicating the other objects were treated with potentially hazardous substances.

Determinations

The Schingoethe Center of Aurora University has determined that:

• The one sacred object described in this notice is a specific ceremonial object needed by a traditional Native American religious leader for present-day adherents to practice traditional Native American religion, according to the Native American traditional knowledge of a lineal descendant, Indian Tribe, or Native Hawaiian organization.

• The eight objects of cultural patrimony described in this notice have ongoing historical, traditional, or cultural importance central to the Native American group, including any constituent sub-group (such as a band, clan, lineage, ceremonial society, or other subdivision), according to the Native American traditional knowledge of an Indian Tribe or Native Hawaiian organization.

• There is a reasonable connection between the cultural items described in this notice and the Winnebago Tribe of Nebraska.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after May 2, 2025. If competing requests for repatriation are received, the Schingoethe Center of Aurora University must determine the most appropriate requestor prior to repatriation. Requests for joint repatriation of the cultural items are considered a single request and not competing requests. The Schingoethe Center of Aurora University is responsible for sending a copy of this notice to the Indian Tribes and Native Hawaiian organizations identified in this notice and to any other consulting parties.

Authority: Native American Graves Protection and Repatriation Act, 25 U.S.C. 3004 and the implementing regulations, 43 CFR 10.9.

Dated: March 21, 2025.
Melanie O'Brien,
Manager, National NAGPRA Program.

[FR Doc. 2025-05596 Filed 4-1-25; 8:45 am]

BILLING CODE 4312-52-P